DEPARTMENT OF TRANSPORTATION

Federal Aviation Administration

Eighteenth Meeting: RTCA Special Committee (223) Internet Protocol Suite (IPS)

AGENCY: Federal Aviation Administration (FAA), U.S. Department of Transportation (DOT).

ACTION: Notice of Eighteenth RTCA Special Committee 223 Meeting.

SUMMARY: The FAA is issuing this notice to advise the public of the Eighteenth RTCA Special Committee 223 Meeting.

DATES: The meeting will be held April 26-28, 2016 from 9:00 a.m.-5:00 p.m.

ADDRESSES: The meeting will be held at RTCA, Inc., 1150 18th Street NW., Suite 910, Washington, DC 20036, Tel: (202) 330-0662.

FOR FURTHER INFORMATION CONTACT: The RTCA Secretariat, 1150 18th Street NW., Suite 910, Washington, DC 20036, or by telephone at (202) 833-9339, fax at (202) 833-9434, or Web site at http://www.rtca.org or Jennifer Iversen, Program Director, RTCA, Inc., jiversen@rtca.org, (202) 330-0662.

SUPPLEMENTARY INFORMATION: Pursuant to section 10(a) (2) of the Federal Advisory Committee Act (Pub. L. 92-463, 5 U.S.C., App.), notice is hereby given for a meeting of RTCA Special Committee 223. The agenda will include the following:

Tuesday-Thursday, April 26-28, 2016

1. Welcome, Introductions, Administrative Remarks

2. Review RTCA Process Presentation

3. Review of the updated SC-223 Terms of Reference

4. Review of current State of Industry Standards

a. ICAO WG-I

b. AEEC IPS Sub Committee

5. Current State of Industry Activities

a. SESAR Programs

b. ESA IRIS Precursor

c. Other

6. Develop Work Plan for SC-223

a. Dependencies on other RTCA Special Committees

b. Safety/Hazard Assessment Need

c. Prioritized Action Plan

d. Special Committee Structure

7. IPS Technical Discussions

8. Any Other Topics of Interest

9. Plans for Next Meetings

Attendance is open to the interested public but limited to space availability. With the approval of the chairman, members of the public may present oral statements at the meeting. Plenary information will be provided upon request. Persons who wish to present statements or obtain information should contact the person listed in the FOR FURTHER INFORMATION CONTACT section. Members of the public may present a written statement to the committee at any time.

Issued in Washington, DC, on March 10, 2016.
Latasha Robinson,
Management & Program Analyst, NextGen, Enterprise Support Services Division, Federal Aviation Administration.

[FR Doc. 2016-05822 Filed 3-14-16; 8:45 am]

BILLING CODE 4910-13-P